DEPARTMENT OF THE INTERIOR

Bureau of Land Management

[LLUT0300000 L17110000 DT0000 24 1A]

Notice of Availability of Record of Decision for the Tropic To Hatch (Garkane) 138 kV Transmission Line Environmental Impact Statement and the Approved Grand Staircase-Escalante National Monument Management Plan Amendment

AGENCY: Bureau of Land Management, Interior.

ACTION: Notice of availability.

SUMMARY: The Bureau of Land Management (BLM) announces the availability of the Record of Decision (ROD) for the Tropic to Hatch (Garkane) 138 kilovolt (kV) Transmission Line Environmental Impact Statement (EIS) and the Approved Grand Staircase-Escalante National Monument Management Plan (MMP) Amendment located in Garfield County, Utah. The Utah State Director signed the ROD on September 8, 2011, which constitutes the final decision of the BLM and makes the Approved MMP Amendment effective immediately. The ROD also indicates the BLM's intent to issue a right-of-way to Garkane Energy, Inc. (Applicant) to construct and maintain the transmission line.

ADDRESSES: Copies of the ROD/Approved MMP Amendment are available upon request from the BLM's Grand Staircase-Escalante National Monument Office, 190 East Center Kanab, Utah 84741, or via the following Web site: http://www.blm.gov/ut/st/en/fo/grand_staircase-escalante.html; or from the Kanab Field Office, 318 North 100 East, Kanab, Utah 84741, or at the following Web site: http://www.blm.gov/ut/st/en/fo/kanab/.

Copies of the ROD/Approved MMP Amendment are available for public inspection at either BLM office.

FOR FURTHER INFORMATION CONTACT: Matt Betenson, Assistant Grand Staircase-Escalante National Monument Manager for Planning and Support Services, telephone (435) 644-4309; 190 East Center, Kanab, Utah 84741; e-mail Matt_Betenson@blm.gov. You may also contact Harry Barber, Kanab Field Office Manager, telephone (435) 644-4600; 190 East Center, Kanab, Utah 84741; e-mail Harry_Barber@blm.gov.

Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: After extensive environmental analysis, collaborative public processes, consideration of public comments, and application of pertinent Federal laws and policies, it is the decision of the BLM to issue a right-of-way grant to Garkane Energy, Inc. for the construction, operation, and maintenance of approximately 7.1 miles of a 138 kV transmission line and access routes for the construction of the project across public lands administered by the Grand Staircase-Escalante National Monument Office (3.7 miles) and the Kanab Field Office (3.4 miles); and to amend the Grand Staircase-Escalante National MMP to provide for such action. The right-of-way grant will authorize the use of public lands for the project for a term of 30 years, which is subject to renewal. The Approved MMP Amendment allows for the issuance of this right-of-way grant by changing a zoning decision in the MMP from Primitive Zone to a 300-foot-wide Passage Zone to accommodate an existing transmission line and route, as well as the Applicant's proposed power line. The MMP Amendment also changes the Visual Resource Management classification from a Class II to a Class III to allow for additional modifications to the landscape within the 300-foot-wide zone. Amendment of the MMP and granting the right-of-way will have minimal effect on the landforms, cultural features, or other important values specifically enumerated in the Grand Staircase-Escalante National Monument Proclamation, as they would be minimized through implementation of mitigation described in the ROD. The U.S. Forest Service, Dixie National Forest, was the lead Federal agency for completion of the EIS, with the BLM and the National Park Service serving as cooperating agencies. The agencies sought participation from the public, tribes, and local, state, and Federal agencies throughout the EIS process. In addition to the 7.1 miles of power line located on public land, the proposal, in total, encompasses another 22.3 miles of power line that traverse U.S. Forest Service, private, and state lands. A separate ROD was issued by the U.S. Forest Service in April, 2011 for granting of the special use permit across U.S. Forest Service lands. The selected alternative avoids construction of the power line across National Park Service lands.

The U.S. Forest Service and the Environmental Protection Agency (EPA) each published a Notice of Availability (NOA) of the Draft Environmental Impact Statement (EIS)/Draft MMP Amendment for public review and comment in the Federal Register. The U.S. Forest Service published the NOA of the Draft EIS/Draft MMP Amendment on December 8, 2009 and the EPA published the NOA of the Draft EIS/Draft MMP Amendment on December 11, 2009, which initiated a 90-day public comment period. The comment period ended on March 12, 2010. The Federal agencies received 19 submittals containing comments from government and non-governmental organizations and private citizens. The comments in each submittal were identified, analyzed, and addressed in the Final EIS. The Draft EIS analyzed four transmission line route alternatives and disclosed impacts associated with these alternatives, including: Alternative A—the Proposed Action; Alternative B—a route that paralleled the existing 69 kV route through Bryce Canyon National Park; Alternative C—the Cedar Forks Southern Route; and the No Action Alternative. The Final EIS was an abbreviated EIS that summarized the impacts of combining portions of Alternatives A and C as the Agency Preferred Alternative, and responded to public comments. The BLM's decision authorizes issuance of a right-of-way grant to Garkane Energy, Inc. for the Agency's Preferred Alternative on BLM administered lands, as analyzed in the Final EIS.The U.S. Forest Service and EPA published an NOA of the Final EIS/Proposed MMP Amendment for public review and comment in the Federal Register on April 8, 2011. After publication of the Final EIS/Proposed MMP Amendment, there were no protests received on the MMP Amendment during the 30-day protest period beginning April 8, 2011, and ending on May 8, 2011, pursuant to 43 CFR 1610.5-2. The Utah Governor's Office did not identify any inconsistencies between the Final EIS/Proposed MMP Amendment and state or local plans, policies, and programs during the 60-day Governor's Consistency Review, in accordance with planning regulations at 43 CFR 1610.3-2(e). As a result of the Governor's Consistency Review, no changes were made in preparing the Approved MMP Amendment.

Any party adversely affected by the decision on the right-of-way application may appeal by October 14, 2011, pursuant to 43 CFR part 4 subpart E, and 43 CFR 2801.10. If you wish to file a petition for a stay of effectiveness of the right-of-way decision during the time your appeal is being reviewed by the Interior Board of Appeals, the petition for a stay must accompany your Notice of Appeal (43 CFR 4.21 or 2801.10). The appeal and petition for a stay, if requested, must be filed with the Utah State Director at BLM, Utah State Office, P.O. Box 45155, Salt Lake City, Utah, 84145-0155, by October 14, 2011. The appeal should state the specific decision(s) in the ROD which is being appealed. Please consult the appropriate regulations (43 CFR part 4, subpart E) for further appeal requirements.

Jeff Rawson
Associate State Director.

[FR Doc. 2011-23485 Filed 9-13-11; 8:45 am]

BILLING CODE 4310-DQ-P